DEPARTMENT OF THE INTERIOR

Fish and Wildlife Service

Availability of the Morro Bay Kangaroo Rat (Dipodomys heermanni morroensis) Draft Revised Recovery Plan

AGENCY: Fish and Wildlife Service, Interior.

ACTION: Notice of document availability.

SUMMARY: The Fish and Wildlife Service announces the availability of the Morro Bay kangaroo rat (Dipodomys heermanni morroensis) draft revised recovery plan for public review. This kangaroo rat is believed to exist at one site in San Luis Obispo County, California.

DATES: Comments on the draft revised recovery plan received by March 27, 2000 will be considered by the Fish and Wildlife Service.

ADDRESSES: Copies of the draft revised recovery plan are available for inspection, by appointment, during normal business hours at the following location: U.S. Fish and Wildlife Service, 2493 Portola Road, Suite B, Ventura, California 93003 (phone: 805/644-1766). The draft revised recovery plan will also be available at the San Luis Obispo County Public Library. Requests for copies of the draft revised recovery plan and written comments and materials regarding this plan should be addressed to the Field Supervisor, at the above Ventura address.

FOR FURTHER INFORMATION CONTACT: Catherine Mc Calvin, at the above Ventura address.

SUPPLEMENTARY INFORMATION:

Background

Restoring endangered or threatened animals and plants to the point where they are again secure, self-sustaining members of their ecosystems is a primary goal of the Service's endangered species program. To help guide the recovery effort, the Service is working to prepare recovery plans for most of the listed species native to the United States. Recovery plans describe actions considered necessary for the conservation of the species, establish criteria for downlisting or delisting them, and estimate time and cost for implementing recovery measures.

The Endangered Species Act, as amended (16 U.S.C. 1531 et seq.) (Act), requires the development of recovery plans for listed species unless such a plan would not promote the conservation of a particular species. Section 4(f) of the Act as amended in 1988 requires that public notice and an opportunity for public review and comment be provided during recovery plan development. The Service considers all information presented during the public comment period prior to approval of each new or revised recovery plan. Substantive technical comments will result in changes to the plans. Substantive comments regarding recovery plan implementation may not necessarily result in changes to the recovery plans, but will be forwarded to appropriate Federal or other entities so that they can take these comments into account during the course of implementing recovery actions. Individualized responses to comments will not be provided.

The Morro Bay kangaroo rat is listed as endangered (35 FR 16047). This species is restricted to less than 200 acres. It is currently known from one site. The Morro Bay kangaroo rat is threatened by habitat loss from development. In addition, the very low numbers of individuals and populations of this species puts it at great risk of extinction due to random naturally-occurring (stochastic) events.

The objective of this revised plan is to provide a framework for the recovery of the Morro Bay kangaroo rat so that protection by the Endangered Species Act is no longer necessary. Actions necessary to accomplish this objective include protecting species habitat through acquisition, conservation easements, and Habitat Conservation Plans; managing species habitat; conducting management-oriented research on the ecology and biology of the species; reviewing and revising management and recovery guidelines; locating additional populations; and establishing new populations within the historic range of the species.

Public Comments Solicited

The Service solicits written comments on this draft revised recovery plan. All comments received by the date specified above will be considered prior to approval of this plan.

Authority: The authority for this action is section 4(f) of the Endangered Species Act, 16 U.S.C. 1533(f).

Dated: January 19, 2000.
Elizabeth H. Stevens,
Acting, California/Nevada Operations Manager, Fish and Wildlife Service, Region 1, Sacramento, California.

[FR Doc. 00-1715 Filed 1-24-00; 8:45 am]

BILLING CODE 4310-55-P